DEPARTMENT OF HEALTH AND HUMAN SERVICES

Centers for Disease Control and Prevention

[30Day-06-05BS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Human Behavior in Fire Study—New—National Center for Injury Prevention and Control (NCIPC), Centers for Disease Control and Prevention (CDC).

Background and Brief Description

This project will characterize the behaviors of individuals who were involved in a residential fire and determine which behaviors are associated with injuries sustained in the fire incident. Behaviors related to fire escape planning and practice, smoke alarm installation and maintenance, physical and visual access to escape routes, etc. will be studied.

In the United States each year, there are approximately 400,000 residential fires, with 14,000 non-fatal and 3,000 fatal civilian injuries. In line with “Healthy People 2010” objectives, NCIPC works to reduce and eliminate non-fatal and fatal injuries from residential fires. In order to develop effective fire-related injury prevention programs, a better understanding of human behavior in fires is needed.

The design of this study will be a matched-pair, case-control study. Cases will be defined as individuals who were injured in a residential fire and controls will be individuals who were involved in a residential fire, but were not injured. Fire incidents involving a fatality will be excluded from this study. Local fire departments throughout the United States will submit fire incident reports to contract personnel, who will select incidents based on geographical location and then screen further for eligibility using a brief telephone interview. For those selected, interviewers will conduct in-depth, computer-assisted face-to-face interviews with participants. The sequence of events surrounding the fire and the behaviors of interviewees will be ascertained using the Behavioral Sequence Interview Technique (BSIT); (Keating & Loftus, 1984). In addition, information on the nature of injuries sustained; characteristics of the fire and home structure; other occupants present; previous fire experiences; safety training; and demographics on the persons interviewed will be collected. The only cost to the respondents is their time. The total annual burden hours are 552.

Estimate of Annualized Burden Hours

Respondents | No. of respondents | No. of responses per respondent | Average burden per response
Adults—screened and eligible | 434 | 1 | 15/60
Adults—screened but are ineligible or refused | 109 | 1 | 5/60
Adult—cases and controls | 434 | 1 | 1

Dated: September 20, 2006.
Joan F. Karr,
Acting Reports Clearance Officer, Centers for Disease Control and Prevention.

[FR Doc. E6-15703 Filed 9-25-06; 8:45 am]

BILLING CODE 4163-18-P